DEPARTMENT OF LABOR

Employment and Training Administration

[TA-W-41,992]

General Electric Transportation Systems, A Subsidiary of General Electric Company, Erie, Pennsylvania; Notice of Termination of Investigation

Pursuant to Section 221 of the Trade Act of 1974, an investigation was initiated on August 19, 2002 in response to a worker petition, which was filed by the United Electrical, Radio and Machine Workers of America (EU), Local 506 on behalf of workers at General Electric Transportation Systems, a subsidiary of General Electric Company, Erie, Pennsylvania.

The petition is a duplicate of the petition for which the Department recently issued a negative determination, TA-W-41,543. Consequently, further investigation in this case would serve no purpose, and the investigation has been terminated.

Signed in Washington, DC this 16th day of September, 2002.
Linda G. Poole,
Certifying Officer, Division of Trade Adjustment Assistance.

[FR Doc. 02-26745 Filed 10-21-02; 8:45 am]

BILLING CODE 4510-30-P